DEPARTMENT OF ENERGY

Federal Energy Regulatory Commission

[Docket No. RP03-625-000]

Chandeleur Pipe Line Company; Notice of Technical Conference

February 24, 2004.

Take notice that a technical conference will be held on Thursday, March 4, 2004 at 10 a.m., in a room to be designated at the Federal Energy Regulatory Commission, 888 First Street, NE., Washington, DC 20426.

The purpose of the conference is to address Chandeleur Pipe Line Company's (Chandeleur) Section 4 rate increase filed on September 30, 2003.¹ Chandeleur should be prepared to discuss all relevant cost and throughput issues, as well as its responses to staff's data request dated December 12, 2003.

¹ Order Accepting and Suspending Tariff Sheet Su.

All parties and staff are permitted to attend.

Magalie R. Salas,
Secretary.

[FR Doc. E4-427 Filed 2-27-04; 8:45 am]

BILLING CODE 6717-01-P